DEPARTMENT OF TRANSPORTATION

Surface Transportation Board

[STB Finance Docket No. 34730]

James George and J&JG Holding Company, Inc.—Continuance in Control Exemption—Saginaw Bay Southern Railway Company

AGENCY: Surface Transportation Board.

ACTION: Notice of exemption.

SUMMARY: The Board grants an exemption, under 49 U.S.C. 10502, from the prior approval requirements of 49 U.S.C. 11323-25 for James George and J&JG Holding Company, a noncarrier (collectively, Petitioners), to continue in control of Saginaw Bay Southern Railway Company (SBS), upon SBS's becoming a rail carrier pursuant to a related transaction involving the acquisition and operation of a line of CSX Transportation, Inc.¹ Petitioners control a Class III carrier, Lake State Railway Company (Lake State), operating in Michigan. One of Lake State's lines connects near Bay City, MI, with the line to be acquired by SBS in the related transaction.

¹ See Saginaw Bay Southern Railway Company—Acquisition and Operation Exemption—Rail Line of CSX Transportation, Inc., [STB Finance Docket No. 34729] (STB served September 27, 2005).

DATES: This exemption will be effective on October 28, 2005. Petitions to stay must be filed by October 21, 2005. Petitions to reopen must be filed by October 25, 2005.

ADDRESSES: Send an original and 10 copies of all pleadings, referring to STB Finance Docket No. 34730, to: Surface Transportation Board, 1925 K Street, NW., Washington, DC 20423-0001. In addition, send one copy of pleadings to Andrew B. Kolesar III, Slover & Loftus, 1224 17th Street, NW., Washington, DC 20036.

FOR FURTHER INFORMATION CONTACT: Joseph H. Dettmar, (202) 565-1609 [assistance for the hearing impaired is available through the Federal Information Relay Service (FIRS) at 1-800-877-8339].

SUPPLEMENTARY INFORMATION: Additional information is contained in the Board's decision. To purchase a copy of the full decision, write to, e-mail or call: ASAP Document Solutions, 9332 Annapolis Rd., Suite 103, Lanham, MD 20706; e-mail asapdc@verizon.net; telephone (202) 306-4004. [Assistance for the hearing impaired is available through FIRS at 1-800-877-8339].

Board decisions and notices are available on our Web site at http://www.stb.dot.gov.

Decided: October 14, 2005.
By the Board, Chairman Nober, Vice Chairman Buttrey, and Commissioner Mulvey.
Vernon A. Williams,
Secretary.

[FR Doc. 05-20968 Filed 10-19-05; 8:45 am]

BILLING CODE 4915-01-P